DEPARTMENT OF COMMERCE

National Oceanic and Atmospheric Administration

[RTID 0648-XF063]

Pacific Fishery Management Council; Public Meeting

AGENCY: National Marine Fisheries Service (NMFS), National Oceanic and Atmospheric Administration (NOAA), Commerce.

ACTION: Notice of public meeting.

SUMMARY: The Pacific Fishery Management Council (Pacific Council, Council) will convene webinar meetings of its Groundfish Advisory Subpanel (GAP), Groundfish Management Team (GMT), Ecosystem Working Group (EWG), Ecosystem Advisory Subpanel (EAS), Salmon Technical Team (STT), Salmon Advisory Subpanel (SAS), Coastal Pelagic Species Advisory Subpanel (CPSAS), Coastal Pelagic Species Management Team (CPSMT), Highly Migratory Species Advisory Subpanel (HMSAS), Highly Migratory Species Management Team (HMSMT), Habitat Committee (HC), and the Fisheries Innovation Workgroup (FIW) (hereafter “advisory bodies”) to discuss items on the Pacific Council's September Council meeting agenda as detailed in the SUPPLEMENTARY INFORMATION section below. The FIW will also discuss items related to the Pacific Council's November Council meeting agenda. These meetings are open to the public.

DATES: The FIW online meetings will be held on Tuesday, August 19, 2025 from 8:30 a.m. to 12:30 p.m. Pacific Time and Wednesday, August 20, 2025 from 8:30 a.m. to 12:30 p.m. Pacific Time.

The CPSAS online meeting will be held on Friday, August 29, 2025 from 2 p.m. to 4 p.m. Pacific Time.

The CPSMT online meeting will be held on Wednesday, September 3, 2025 from 10 a.m. to 12 p.m. Pacific Time.

The HMSMT online meetings will be held on Thursday, September 4, 2025 from 1 p.m. to 5 p.m. Pacific Time and Friday, September 5th from 10 a.m. to 3 p.m. Pacific Time.

The GAP and GMT joint online meeting will be held on Tuesday, September 9, 2025, from 9 a.m. to 4 p.m. Pacific Time.

The EWG online meeting will be held on Tuesday, September 9, 2025 from 1 p.m. to 5 p.m. Pacific Time.

The HMSAS online meetings will be held on Wednesday, September 10, 2025 from 1 p.m. to 5 p.m. Pacific Time and Friday, September 12, 2025 from 8:30 a.m. to 12:30 p.m. Pacific Time.

The STT online meeting will be held on Monday, September 15, 2025 from 9 a.m. to 4 p.m. Pacific Time.

The HC online meeting will be held on Tuesday, September 16, 2025 from 8:30 a.m. to 5 p.m. Pacific Time.

The SAS online meeting will be held on Tuesday, September 16, 2025 from 9 a.m. to 4 p.m. Pacific Time.

The EAS online meeting will be held on Tuesday, September 16, 2025 from 1 p.m. to 5 p.m. Pacific Time.

The GMT online meeting will be held on Tuesday, September 2, 2025 from 1 p.m. to 4 p.m. Pacific Time.

The scheduled ending times for these meetings is an estimate. The meetings will adjourn when business for the day is completed.

ADDRESSES: These meetings will be held online. Specific meeting information, including directions on how to attend the meeting and system requirements will be provided in the meeting announcement on the Pacific Council's website (see www.pcouncil.org). You may send an email to Mr. Kris Kleinschmidt (kris.kleinschmidt@pcouncil.org) or contact him at (503) 820-2412 for technical assistance.

Council address: Pacific Fishery Management Council, 7700 NE Ambassador Place, Suite 101, Portland, OR 97220-1384.

FOR FURTHER INFORMATION CONTACT: Jessi Waller, Staff Officer, Pacific Council; jessi.waller@pcouncil.org, telephone: (503) 820-2415.

SUPPLEMENTARY INFORMATION: The primary purpose of the advisory body webinars is to prepare for the Pacific Council's September 2025 meeting agenda items. The FIW will also prepare for the Pacific Council's November 2025 meeting agenda items. The advisory bodies will discuss items related to the advisory body's particular management items and administrative matters on the Pacific Council's agenda. The advisory bodies may also address other assignments as directed by the Pacific Council. A detailed agenda for each webinar will be available on the Pacific Council's website prior to the meeting. No management actions will be decided by any of the advisory bodies.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt kris.kleinschmidt@pcouncil.org; (503) 820-2412 at least 10 days prior to the meeting date.

Authority: 16 U.S.C. 1801 et seq.

Dated: July 30, 2025.
Rey Israel Marquez,
Acting Deputy Director, Office of Sustainable Fisheries, National Marine Fisheries Service.

[FR Doc. 2025-14584 Filed 7-31-25; 8:45 am]

BILLING CODE 3510-22-P